DEPARTMENT OF LABOR

Employment and Training Administration

[TA-W-65,711]

Cadmus Communications, Easton, MD; Notice of Termination of Investigation

Pursuant to Section 221 of the Trade Act of 1974, as amended, an investigation was initiated on March 31, 2009 in response to a petition filed by a state agency representative on behalf of workers of Cadmus Communications, Easton, Maryland.

The petitioner has requested that the petition be withdrawn. Consequently, the investigation has been terminated.

Signed at Washington, DC, this 9th day of April 2009.
Linda G. Poole,
Certifying Officer, Division of Trade Adjustment Assistance.

[FR Doc. E9-10889 Filed 5-8-09; 8:45 am]

BILLING CODE 4510-FN-P